NUCLEAR REGULATORY COMMISSION

Advisory Committee on Nuclear Waste; Notice of Meeting

The Advisory Committee on Nuclear Waste (ACNW) will hold its 145th meeting on September 16-18, 2003, 11545 Rockville Pike, Rockville, MD.

The entire meeting will be open to public attendance.

The schedule for this meeting is as follows:

Tuesday, September 16, 2003

10:30 a.m.-10:40 a.m.: Opening Statement (Open)—The Chairman will open the meeting with brief opening remarks, outline the topics to be discussed, and indicate items of interest.

10:40 a.m.-12 Noon.: Commission Presentations (Open)—The Committee will discuss its presentation for the October 23, 2003 public meeting with the NRC Commissioners. Topics proposed for discussion:

• Chairman's Report

• High-Level Waste Risk Insights

• TSPA/TPA Working Group

• Performance Confirmation Working Group

• Status and Pathway to Closure on KTIs

1 p.m.-6 p.m.: Committee Retreat (Open)—The focus of the September 2003 retreat is to identify the suite of topics that the Committee intends to examine over the next 12 to 18 months. The topics to be proposed would be consistent with the priorities defined in Action Plan as well as earlier Committee discussions with the Commission and NMSS management.

Wednesday, September 17, 2003

8:30 a.m.-8:35 a.m.: Opening Statement (Open)—The Chairman will make opening remarks regarding the conduct of today's sessions.

8:35 a.m.-2 p.m.: Committee Retreat (Continued) (Open)—The Committee will identify specific topics and its plans for review of the relevant High-Level Were issues from the present to the submission by DOE of a license application for the Yucca Mountain repository.

2 p.m.-6 p.m.: Proposed ACRS Report (Open)—The Committee will discuss a proposed ACNW report on matters considered during this meeting, as well as proposed ACNW reports on the Performance Confirmation Working Group.

Thursday, September 18, 2003

8:30 a.m.-8:35 a.m.: Opening Statement (Open)—The Chairman will make opening remarks regarding the conduct of today's sessions.

8:35 a.m.-9:30 a.m.: Planning for 147th ACNW Meeting Las Vegas, Nevada (Open)—The Committee will review proposed activities for its November 18, 2003 trip to Yucca Mountain and the Amargosa Valley and its subsequent technical discussion in Las Vegas, NV with DOE representatives and others (including stakeholders and the public) during the 147th ACNW Meeting, November 19-20, 2003.

9:45 a.m.-11:45 p.m.: Preparation of ACNW Report (Open)—The Committee will discuss a proposed ACNW report.

12:45 p.m.-2:45 p.m.: Preparation for Meeting with the NRC Commissioner (Open)—The Committee will finalize its viewgraphs for the proposed October 23, 2003, meeting with the NRC Commissioners.

2:45 p.m.-3 p.m.: Miscellaneous (Open)—The Committee will discuss matters related to the conduct of Committee activities and matters and specific issues that were not completed during previous meetings, as time and availability of information permit.

Procedures for the conduct of and participation in ACNW meetings were published in the Federal Register on October 11, 2002 (67 FR 63459). In accordance with these procedures, oral or written statements may be presented by members of the public. Electronic recordings will be permitted only during those portions of the meeting that are open to the public. Persons desiring to make oral statements should notify Mr. Howard J. Larson, ACNW (Telephone 301/415-6805), between 7:30 a.m. and 4 p.m. ET, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Mr. Howard J. Larson as to their particular needs.

Further information regarding topics to be discussed, whether the meeting has been canceled or rescheduled, the Chairman's ruling on requests for the opportunity to present oral statements and the time allotted therefore can be obtained by contacting Mr. Howard J. Larson.

ACNW meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Videoteleconferencing service is available for observing open sessions of ACNW meetings. Those wishing to use this service for observing ACNW meetings should contact Mr. Theron Brown, ACNW Audiovisual Technician (301/415-8066), between 7:30 a.m. and 3:45 p.m. ET, at least 10 days before the meeting to ensure the availability of this service. Individuals or organizations requesting this service will be responsible for telephone line charges and for providing the equipment and facilities that they use to establish the video teleconferencing link. The availability of video teleconferencing services is not guaranteed.

Dated: September 2, 2003.
Andrew L. Bates,
Advisory Committee Management Officer.

[FR Doc. 03-22718 Filed 9-5-03; 8:45 am]

BILLING CODE 7590-01-P